SECURITIES AND EXCHANGE COMMISSION

[File No. 1-31514]

Issuer Delisting; Notice of Application of Meredith Enterprises, Inc. to Withdraw Its Common Stock, $.01 Par Value, From Listing and Registration on the American Stock Exchange LLC

October 4, 2005.

On September 15, 2005, Meredith Enterprises, Inc., a Delaware corporation (“Issuer”), filed an application with the Securities and Exchange Commission (“Commission”), pursuant to Section 12(d) of the Securities Exchange Act of 1934 (“Act”) ¹ and Rule 12d2-2(d) thereunder,² to withdraw its common stock, $.01 par value (“Security”), from listing and registration on the American Stock Exchange LLC (“Amex”).

¹ 15 U.S.C. 78l(d).

² 17 CFR 240.12d2-2(d).

On September 8, 2005, the Board of Directors (“Board”) of the Issuer approved resolutions to withdraw the Security from listing and registration on Amex. The Issuer stated the following reasons, among others, factored into the Board's decision to withdraw the Security from Amex. First, the ongoing costs and expenses, both direct and indirect, associated with the preparation and filing of the Issuer's periodic reports with the Commission. The Issuer expects to save each year approximately the equivalent of the current quarterly dividend in out-of-pocket accounting, legal, and other costs. Second, the substantial increase in costs and expenses that the Issuer expects to incur in 2006, and thereafter as a public company in light of the Sarbanes-Oxley Act of 2002, particularly in complying with Section 404 of such act. Third, going private will enable management to focus more time on running the business rather than on Commission compliance. Fourth, liquidity of the Security on Amex has been limited, and volatility has been greater than the Issuer believes is warranted.

The Issuer stated that it has met the requirements of Amex's rules governing an issuer's voluntary withdrawal of a security from listing and registration by complying with all the applicable laws in effect in Delaware, the State in which it is incorporated, and by providing Amex with the required documents for withdrawal from Amex.

The Issuer's application relates solely to the withdrawal of the Security from listing on Amex and from registration under Section 12(b) of the Act,³ and shall not affect its obligation to be registered under Section 12(g) of the Act.⁴

³ 15 U.S.C. 781(b).

⁴ 15 U.S.C. 781(g).

Any interested person may, on or before October 28, 2005, comment on the facts bearing upon whether the application has been made in accordance with the rules of Amex, and what terms, if any, should be imposed by the Commission for the protection of investors. All comment letters may be submitted by either of the following methods:

Electronic Comments

• Use the Commission's Internet comment form (http://www.sec.gov/rules/delist.shtml); or

• Send an e-mail to rule-comments@sec.gov. Please include the File Number 1-31514 or;

Paper Comments

• Send paper comments in triplicate to Jonathan G. Katz, Secretary, Securities and Exchange Commission, 100 F Street, NE., Washington, DC 20549-9303.

All submissions should refer to File Number 1-31514. This file number should be included on the subject line if e-mail is used. To help us process and review your comments more efficiently, please use only one method. The Commission will post all comments on the Commission's Internet Web site (http://www.sec.gov/rules/delist.shtml). Comments are also available for public inspection and copying in the Commission's Public Reference Room. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. E5-5560 Filed 10-7-05; 8:45 am]

BILLING CODE 8010-01-P